FEDERAL COMMUNICATIONS COMMISSION

Public Information Collections Approved by Office of Management and Budget

May 16, 2006.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington DC, 20554, (202) 418-1359 or via the Internet at plaurenz@fcc.gov.

SUPPLEMENTARY INFORMATION: OMB Control No.: 3060-0763.

OMB Approval date: 04/26/2006.

Expiration Date: 04/30/2009.

Title: The ARMIS Customer Satisfaction Report.

Form No.: FCC Report 43-06.

Estimated Annual Burden: 7 responses; 5,040 total annual burden hours; 720 hours per respondent.

Needs and Uses: This collection was submitted as an extension to an existing collection. ARMIS was implemented to facilitate the timely and efficient analysis of revenue requirements, rates of return and price caps; to provide an improved basis for audits and other oversight functions; and to enhance the Commission's ability to quantify the effects of alternative policy. The ARMIS 43-06 Report reflects the results of customer satisfaction surveys conducted by individual carriers from residential and business customers. The ARMIS 43-06 captures trends in service quality as a result of consumer satisfaction surveys.

OMB Control No.: 3060-0848.

OMB Approval date: 04/26/2006.

Expiration Date: 04/30/2009.

Title: Deployment of Wireline Services Offering Advanced Telecommunications Capability, CC Docket No. 98-147.

Form No.: N/A.

Estimated Annual Burden: 1,750 responses; 165,600 total annual burden hours; 05—44 hours per respondent.

Needs and Uses: This collection was submitted as an extension to an existing collection. This collection of information implements Section 251 of the Communications Act of 1934, as amended. In CC Docket Nos. 98-147 and 96-98, the Commission sought to further Congress's goal of promoting innovation and investment by all participating in the telecommunications marketplace, in order to stimulate competition for all services, including advanced services. In furtherance of this goal, the Commission imposes certain collections of information on incumbent local exchange carriers (LECs) in order to ensure compliance with the incumbent LEC's collocation obligations and to assist incumbent LECs in protecting network integrity.

Federal Communications Commission.
Marlene H. Dortch,
Secretary.

[FR Doc. E6-7842 Filed 5-23-06; 8:45 am]

BILLING CODE 6712-01-P